DEPARTMENT OF COMMERCE

National Oceanic and Atmospheric Administration

Proposed Information Collection; Comment Request; West Coast Swordfish Fishery Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 9, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Dr. Stephen Stohs, Southwest Fisheries Science Center—La Jolla Laboratory, La Jolla, CA 92037, (858) 546-7084, Stephen.Stohs@noaa.gov.

SUPPLEMENTARY INFORMATION:

I. Abstract

This request is for a review of a regular submission (extension without change of a currently approved information collection).

The Southwest Fisheries Science Center—La Jolla Laboratory (SWFSC) proposes to collect information from the different types of fishing vessels operating in the U.S. West Coast Commercial Swordfish Fishery (WCCSF). Requested information will include different components of operating costs and earnings for the various types of vessels in the U.S. west coast commercial swordfish fleet.

This economic data collection effort for the WCCSF will improve the SWFSC's capability to do the following: (1) Describe and monitor economic performance (e.g., profitability, capacity utilization, efficiency, and productivity) and impacts (e.g., sector, community, or region-specific employment and income impacts); (2) determine the quantity and distribution of net benefits derived from living marine resources; (3) understand and predict the behavior of participants in Federally managed commercial fisheries; (4) predict the biological, ecological, and economic impacts of existing management measures and alternative proposed management actions; and (5) in general, more effectively conduct the analyses required under the MSA, the Endangered Species Act (ESA), and the Marine Mammal Protection Act (MMPA), the National Environmental Policy Act (NEPA), and Regulatory Flexibility Act (RFA), Executive Order 12866, and other applicable law.

II. Method of Collection

A standardized survey will be administered via in-person interview, telephone interview and/or mail to all WCSF participants.

III. Data

OMB Control Number: 0648-0751.

Form Number(s): None.

Type of Review: Regular submission (extension without change of a currently approved information collection).

Affected Public: Business or other for-profit organizations.

Estimated Number of Respondents: 50.

Estimated Time per Response: 60 minutes.

Estimated Total Annual Burden Hours: 50.

Estimated Total Annual Cost to Public: There is no cost to respondents other than their time.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-00006 Filed 1-6-20; 8:45 am]

BILLING CODE 3510-22-P